DEPARTMENT OF TRANSPORTATION

National Highway Traffic Safety Administration

[Docket No. NHTSA-2001-9630; Notice 2]

Decision That Nonconforming 2001 Ferrari 550 Passenger Cars Are Eligible for Importation

AGENCY: National Highway Traffic Safety Administration (NHTSA), DOT.

ACTION: Notice of decision by NHTSA that nonconforming 2001 Ferrari 550 passenger cars are eligible for importation.

SUMMARY: This notice announces the decision by NHTSA that 2001 Ferrari 550 passenger cars not originally manufactured to comply with all applicable Federal motor vehicle safety standards are eligible for importation into the United States because they are substantially similar to vehicles originally manufactured for importation into and sale in the United States and certified by their manufacturer as complying with the safety standards (the U.S. certified version of the 2001 Ferrari 550), and they are capable of being readily altered to conform to the standards.

DATE: This decision is effective as of the date of its publication in the Federal Register.

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies of Baltimore, Maryland (“J.K.”) (Registered Importer 90-006) petitioned NHTSA to decide whether 2001 Ferrari 550 Passenger cars are eligible for importation into the United States. NHTSA published notice of the petition on May 21, 2001 (66 FR 28025) to afford an opportunity for public comment. The reader is referred to that notice for a description of the petition. The notice stated that the closing date for comments was June 20, 2001. The agency published on July 26, 2001 (66 FR 39081) notice that it was extending the comment period until August 10, 2001, based on requests that it had received from Fiat Auto R&D U.S.A., a division of Alfa Romeo, Inc., and Ferrari North America Inc.

Twenty-one comments were submitted in response to the notice of petition. Nineteen of these supported the granting of the petition. One comment, from an individual identifying himself as “James A. Linder” and stating that he represented the “Original Automobile Manufacturer's Association” of Concord, New Hampshire, which the agency has learned is a fictitious entity, raised general objections concerning the registered importer program and its impact on fabricating manufacturers, but did not directly address the subject of the petition— whether non-U.S. certified 2001 Ferrari 550 passenger cars are eligible for importation. As a consequence, the agency is not responding to this comment in this notice.

The remaining comment was from Ferrari North America, Inc. (“Ferrari”), the United States representative of Ferrari SpA, the manufacturer of the 2001 Ferrari 550. In its comment, Ferrari addressed the conformity status of the non-U.S. certified 2001 Ferrari 550 with, or its capability to be conformed to, the following standards: Federal Motor Vehicle Safety Standard (“FMVSS”) Nos. 108, Lamps, Reflective Devices, and Associated Equipment; 118, Power-Operated Window Systems; 208, Occupant Crash Protection; 214, Side Impact Protection; 216, Roof Crush Resistance; 225, Child Restraint Anchorage Systems; 301, Fuel System Integrity; and the Bumper Standard found in 49 CFR part 581. After receiving this comment, NHTSA accorded J.K. an opportunity to comment upon the issues that Ferrari had raised. Ferrari's comments with respect to each of the standards at issue are set forth below, together with J.K.'s response to those comments and NHTSA's analysis of the matters in contention between the two. The agency's analysis is based on the contents of the petition, and on the comments submitted by J.K. and Ferrari. In addition, to assist the agency's analysis, NHTSA representatives examined a U.S.-certified version of the 2001 Ferrari 550 at a Ferrari dealership in Sterling, Virginia, and a non-U.S. certified version of the vehicle at J.K.'s facility in Baltimore, Maryland. Ferrari's comments, J.K.'s response, and NHTSA's analysis are separately stated below for each of the standards at issue.

1. FMVSS No. 108, Lamps, Reflective Devices, and Associated Equipment

Ferrari stated that turn signal lamps are required by the standard to be located as far apart as practicable. Ferrari further stated that it has been informed by one of its dealerships that J.K. has not met this requirement in the past because the turn signal lamps on vehicles that it has altered are not placed at the outermost portion of the rear tail lamp assemblies.

J.K. claimed that the tail lamps on the non-U.S. certified 2001 Ferrari 550 meet the requirements of the standard. According to J.K., the signal lamps are located in the center of the rear stop lamp assembly that is mounted at the edge of the vehicle, and the turn signal lamp is 1.25 inches from the edge of the vehicle. J.K. believes that the phrase “as far apart as practicable” in the standard refers to the assembly and not to the lamp. J.K. also stated that the tail lamp assemblies on both the U.S. certified and the non-U.S. certified versions of the vehicle are the same and that the non-U.S. certified vehicles would be rewired to operate in the same manner as their U.S.-certified counterparts.

Analysis: The requirement in the standard for the mounting of lamps and reflectors as far apart as practicable applies to all of the lamps and reflectors that are mounted on the vehicle. The agency recognizes that it would be impractical to mount all of these components on a vertical line at the outer edge of the vehicle. Moreover, it was not the intent of the standard to be that design restrictive.

Addressing the comments, the agency notes that Ferrari did not state that the rear stop lamp assemblies on non-U.S. certified 2001 Ferrari 550 vehicles do not meet the requirements of FMVSS No. 108, but only made an observation regarding the conformity status of other vehicles that J.K. has modified. That observation is not germane to the matter at issue—whether the non-U.S. certified 2001 Ferrari 550 is capable of being readily modified to conform to the standard. The agency notes that J.K. has stated that it would modify the tail lamp assembly wiring on the non-U.S. certified 2001 Ferrari 550 so that the tail lamps will operate in the same manner as those on the U.S.-certified version of the vehicle and Ferrari has not taken issue with this assertion. The agency has therefore concluded that the non-U.S. certified 2001 Ferrari 550 is capable of being readily modified to comply with FMVSS No. 108.

2. FMVSS No. 118, Power-Operated Window Systems

Ferrari acknowledged that J.K. recognizes that the power window system must be modified so that it will not operate when the ignition is in the “off” position. Ferrari again stated that it had been informed by one of its dealers that other vehicles modified by J.K. were not in compliance with this requirement.

J.K. stated that it would add a relay to the power window system so that the power windows will not operate when the ignition switch is in the “off” position.

Analysis: Ferrari in essence concedes that non-U.S. certified 2001 Ferrari 550 vehicles can be modified to meet the standard. Ferrari's expressed concerned that J.K. may not actually perform this modification on a given vehicle is not germane to the issue of whether the non-U.S. certified 2001 Ferrari 550 is capable of being readily modified to meet this standard. Since no information has been provided to the contrary, NHTSA has concluded that the vehicle is capable of being so modified.

3. FMVSS No. 208, Occupant Crash Protection

Ferrari stated that both the air bags and the electronic control unit must be replaced on the non-U.S. certified 2001 Ferrari 550 to bring these vehicles into compliance with the standard. Ferrari also stated that U.S. certified and non-U.S. certified versions of the vehicle have different bumper systems and different curb weights. Ferrari indicated that these factors might affect the non-U.S. certified vehicle's compliance with FMVSS No. 208.

J.K. stated that it would inspect all vehicles and replace all parts of the automatic and manual occupant restraint systems that do not bear U.S. part numbers, including the steering wheel, seat belts, air bags, air bag sensors, wiring, and knee bolsters. In addition, J.K. stated that it would replace all of the non-U.S. bumper parts on the non-U.S. certified 2001 Ferrari 550 with U.S. model components to make the bumper system identical to that on the U.S. certified version of the vehicle.

Analysis: J.K. stated that it would examine all restraint and bumper system components on the non-U.S. certified 2001 Ferrari 550 and replace those that are not identical to U.S.-model parts. J.K.'s list of restraint system components that it would examine is larger than the list of components that Ferrari stated would be necessary to replace. Following the modifications outlined by J.K., the non-U.S. certified 2001 Ferrari 550 will be essentially the same as the U.S. certified version of the vehicle with respect to the manual and automatic restraint systems and the bumper system.

With regard to Ferrari's concern that the non-U.S. certified 2001 Ferrari 550 is lighter than its U.S. certified counterpart, the agency has taken note of the type of testing conducted by Ferrari SpA to certify these vehicles to FMVSS No. 208. Ferrari informed the agency that the U.S. certified 2001 Ferrari 550 was certified to FMVSS No. 208 using the sled test option (paragraph S13) of the standard. With respect to that test, the primary components that affect compliance are the air bags, the components that support the air bags such as the steering column and the dash, and the seats. Since this is not a crash test and since the test protocol calls for the laboratory to fire the bags at a particular point in time, the vehicle structure, the test weight, the bumpers, and even the electronic control module do not affect the test results or this part of the certification.

In addition to the unbelted sled test, the vehicle is also required to pass a 30 m.p.h. rigid barrier impact test with belted dummies. In this test environment, a lighter vehicle will create less impact energy than a heavier vehicle. It is difficult to believe that a differential of less than 4 percent in vehicle weight will have a significant effect on the response of the vehicle structure and/or the vehicle restraint systems.

Based on these considerations, the agency has concluded that if all non-U.S. model restraint and bumper system components on the non-U.S. certified 2001 Ferrari 550 are replaced with U.S.-model components, as J.K. stated it plans to do, those vehicles will comply with FMVSS No. 208. On this basis, the agency has concluded that the non-U.S. certified 2001 Ferrari 550 is capable of being readily modified to conform to the standard.

4. FMVSS No. 214, Side Impact Protection.

Ferrari stated that non-U.S. certified 2001 Ferrari 550 vehicles “do not contain side intrusion bars, and have not been certified to meet FMVSS 214.” During their visit to the Ferrari dealership in Sterling, Virginia, the NHTSA representatives were shown the door beam in a U.S. certified 2001 Ferrari 550 Maranello coupe. The beam cross-section was a rectangular shape with the top and bottom of the beam shaped as a semi-circle. Towards the front of the vehicle, the beam was welded along its upper and lower edges to the door structure that faced the outer door skin. Ferrari pointed out that this would be a difficult weld to perform without removing the outer door skin.

J.K. claimed that all non-U.S. certified 2001 Ferrari 550 vehicles that it has inspected have door beams that were installed during the manufacturing process. J.K. further indicated that all non-U.S. certified 2001 Ferrari 550 vehicles would be inspected for compliance with Standard No. 214, and that any doors lacking door beams would be replaced with U.S.-model components.

Analysis: During their visit to J.K.'s facility, the NHTSA representatives were shown a Ferrari 550 Barchetta 5SP that was represented by J.K., in writing, to have been certified for the German market. The first 11 characters of the vehicle's VIN were ZFFZR52B000. The interior door trim had been removed from the driver's door, revealing a reinforcement bar that had been welded in place. This bar and the weld pattern that attached the bar to the door frame appeared to be the same as the bar and weld pattern the NHTSA representatives had observed on the U.S. certified 2001 Ferrari 550 they were shown at the Ferrari dealership in Sterling, Virginia. More specifically, the bars in the two vehicles had the same cross-section shape, and were the same width. Ferrari had stated that the only way the bars could be welded onto the door frame at the front of the door is with the door outer skin sheet metal removed. The welds along the bar in this region appeared to be the same on both versions of the vehicle. Based on these circumstances, the bar in the non-U.S. certified vehicle was apparently placed in the door during construction of the door.

From NHTSA's inspection of a non-U.S. certified 2001 Ferrari 550 at J.K.'s facilities, it is clear that at least some non-U.S. versions of the vehicle were manufactured with door beams. J.K. has further stated that if it receives a vehicle with a door that lacks a door beam, it would replace the door with a U.S.-model door. Based on these considerations, the agency has concluded that non-U.S. certified 2001 Ferrari 550 vehicles are capable of being readily modified to comply with FMVSS No. 214.

5. FMVSS No. 216, Roof Crush Resistance.

Ferrari stated that the U.S. certified 2001 Ferrari 550 has a different roof frame than the non-U.S. certified version of the vehicle. According to the company, the U.S. certified version is reinforced around the windshield opening to assure compliance with FMVSS No. 216. Ferrari asserted that in order to install a U.S.-model roof frame, “the importer would have to remove the existing roof and pillars back to the C Pillar and replace them with U.S. spec'd parts.”

During their visit to the Ferrari dealership in Sterling, Virginia, the NHTSA representatives were shown a frame member that the Ferrari representatives claimed is not present in non-U.S. certified versions of the 2001 Ferrari 550. The component consisted of a single cross-member that crosses the roof directly behind the initial header cross-member.

J.K. showed the agency representatives, during their visit to its facility, a part that it manufactured to attach to the roof structure of the non-U.S. certified 2001 Ferrari 550. A J.K. representative demonstrated how this part will slide into place between the roof and the existing header cross-member and attach to the existing roof structure. J.K. further described in one of its submissions to the agency the process it would use to install the additional roof structural member.

Analysis: Both Ferrari and J.K. are in agreement that the U.S. certified 2001 Ferrari 550 is manufactured with an additional roof structural member. Therefore, the agency's analysis must address two questions. The first is whether J.K.'s proposed modification will assure compliance with the requirements of the standard. The second is whether that proposed modification is capable of being readily performed.

Under the FMVSS No. 216 test procedure, the loading plate places a load on a vehicle at the intersection of the A pillar, the windshield header, and the roof rail. The resultant forces from the load plate compress the windshield (which, because it consists of glass, is very resistant to compression) and the A pillar. The rest of the load is directed into the roof rail and across the windshield header cross-member. The agency is not certain what function is served by the additional cross-member in the roof of the U.S. certified 2001 Ferrari 550. One function it may serve is to reduce the twist of the header/roof rail rectangle. Nevertheless, since the additional cross-member that J.K. is planning to install will be the same shape as, and be somewhat stronger than, the U.S.-model part, the agency concludes it will accomplish the same task as that component. The agency has therefore concluded that if the U.S. certified 2001 Ferrari 550 is in compliance with FMVSS No. 216, a vehicle modified as proposed by J.K. will also be in compliance with the standard.

With respect to the difficulty of installing this additional cross-member, J.K. demonstrated that there is a space between the roof skin and the back end of the cross-member that is presently installed in non-U.S. certified vehicles. J.K. plans to slide its additional cross member into this space and weld it in place. Because this appears to be a straightforward operation, the agency has concluded that the non-U.S. certified 2001 Ferrari 550 is capable of being readily modified to comply with FMVSS No. 216.

6. FMVSS No. 225, Child Restraint Anchorage Systems

In its comments, Ferrari noted that the openings for the mounting of components on the rear frames of the U.S.-certified and non-U.S. certified versions of the 2001 Ferrari 550 are identical. The company stated, however, that only U.S. and Canadian certified vehicles are fitted with top tether anchorages for child restraints. During the agency's visit to the Ferrari dealership, the Ferrari representatives asserted that in order to install the anchorages behind the passenger seat, reinforcements to the chassis must be added. They pointed to an aluminum beam that ran behind the seats that they stated must be welded into the vehicle.

J.K. stated that both the U.S.-certified and the non-U.S. certified versions of the vehicle have the same rear frame, including the beam in question, and that it intends to install the U.S.-model anchorage part on the rear frame of the non-U.S. certified vehicles. At J.K.'s facility, the agency's representatives were shown a U.S.-model tether anchorage. The anchorage attached to the rear beam by two bolts.

Analysis: In view of Ferrari's concession that there are openings for mounting the tether anchorage on the rear frame of the non-U.S. certified 2001 Ferrari 550, the agency has concluded that these vehicles can be readily modified to comply with FMVSS No. 225.

7. FMVSS No. 301, Fuel System Integrity.

Ferrari pointed out a number of differences between the fuel systems of the U.S. certified and the non-U.S. certified 2001 Ferrari 550 vehicles during the NHTSA representatives' visit to the Ferrari dealership in Sterling, Virginia. Those differences were:

1. The charcoal canister in the U.S. certified vehicle is larger than the one installed in the non-U.S. certified vehicle and is located in the rear of the vehicle near the fuel tank rather than under the hood.

2. The vehicle trunk area in the U.S. certified vehicle was modified to allow for the charcoal canister and a different volume fuel tank.

3. The fuel filler neck and pipes in the two versions of the vehicle are different.

4. The rollover valves are also different.

5. Two bars were added to the rear structure in the U.S. certified version to assure the positioning of the fuel tank and to protect the tank during side impacts. Ferrari expressed the opinion that a U.S.-model tank could not be installed in a non-U.S. certified vehicle because the frame supports are different.

6. A temperature sensor and heat exchanger were inserted into the fuel tank fuel line in the U.S. certified vehicle. A port for the temperature sensor is not supplied on the non-U.S.-model tank.

7. A spill back valve was placed in the fuel filler pipes in the U.S. certified vehicle.

8. All wiring in the U.S. certified vehicle is different from that in the non-U.S. certified vehicle to accommodate the additional sensors.

J.K. stated that the non-U.S. certified 2001 Ferrari 550, as delivered from Europe, will meet the requirements of FMVSS No. 301, but will not meet current Environmental Protection Agency (EPA) regulations. To bring these vehicles into compliance with the EPA regulations, J.K. stated that the vehicles “must have the stock US gas tank, fuel lines, fuel coolers, the filler neck, rollover valve, fuel/vapor (disaerator) separator including the vapor lines and evaporative canister installed to make them identical to the US model.” J.K. further asserted that “[t]hese parts [will be] installed in the stock locations using the stock mounts that are already in the frame.”

Analysis: J.K. states that it would replace all non-U.S. model fuel system parts that are different from U.S.-model parts to satisfy the EPA performance regulations, using attachment holes that are provided on the vehicle frame. Ferrari acknowledges that the frames and mounting holes are the same for both the U.S. certified and the non-U.S. certified versions of the vehicle, with the exception of two brackets that are used to attach the U.S.-model fuel tank to the vehicle frame. After being apprised of this statement, J.K. furnished the agency with photographs of a non-U.S. certified vehicle that has these brackets attached.

Based on the following considerations, the agency has concluded that the non-U.S. certified 2001 Ferrari 550 is capable of being readily modified to comply with FMVSS No. 301:

1. The rear frames on U.S. certified and the non-U.S. certified versions of the vehicle are the same.

2. These frames have mounting brackets and holes to accommodate both U.S. and non-U.S.-model fuel system components.

3. Specific fuel lines are specified for U.S. model vehicles, and therefore fuel lines cannot be randomly attached to the frame.

4. In order to meet the EPA regulations, the fuel system in the non-U.S. certified vehicle must be modified to be essentially the same as the system on the U.S. certified vehicle.

7. 49 CFR Part 581, Bumper Standard

Ferrari asserted that the bumpers are very different on the U.S. certified and the non-U.S. certified versions of the 2001 Ferrari 550. The company stated that the front bumper on the U.S. certified vehicle weighs 3.6 kg (7.9 lb) more than that on the non-U.S. certified vehicle, and that the rear bumper weighs 9.25 kg (20.4 lb) more. Ferrari also maintains that simple changes in the brackets that attach the bumpers to the vehicle frame are not sufficient to bring the vehicle into compliance with the Bumper Standard.

J.K. stated that it would modify the front and rear bumper systems on the non-U.S. certified 2001 Ferrari 550 to make them identical to the bumper systems on the U.S. certified version of the vehicle.

Analysis: Since J.K. claimed that it would replace all non-U.S.-model bumper parts with U.S.-model parts, the agency has concluded that the non-U.S. certified 2001 Ferrari 550 is capable of being readily modified to conform to the requirements of Part 581.

Conclusion

As detailed in the preceding discussion, J.K. has stated that, with the exception of a roof cross-member, it would replace, with U.S.-model parts, all non-U.S. model parts that are necessary to bring non-U.S. certified 2001 Ferrari 550 vehicles into compliance with the applicable Federal Motor Vehicle Safety Standards and with the Bumper Standard in Part 581. The agency notes that replacing the majority of these parts is a matter of removing the non-U.S. model part and bolting on the U.S. model part. J.K. has demonstrated to the agency that the roof cross-member can be installed in a non-U.S. certified 2001 Ferrari 550 without undue complexity.

Vehicle Eligibility Number for Subject Vehicles

The importer of a vehicle admissible under any final decision must indicate on the form HS-7 accompanying entry the appropriate vehicle eligibility number indicating that the vehicle is eligible for entry. VSP-377 is the vehicle eligibility number assigned to vehicles admissible under this notice of final decision.

Final Decision

Accordingly, on the basis of the foregoing, NHTSA hereby decides that 2001 Ferrari 550 passenger cars that were not originally manufactured to comply with all applicable Federal motor vehicle safety standards are substantially similar to 2001 Ferrari 550 passenger cars originally manufactured for importation into, and sale in, the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Marilynne Jacobs,
Director, Office of Vehicle Safety Compliance.

[FR Doc. 02-8621 Filed 4-9-02; 8:45 am]

BILLING CODE 4910-59-P